DEPARTMENT OF TRANSPORTATION

Coast Guard

[USCG-2000-7514]

National Preparedness for Response Exercise Program (PREP)

AGENCY: Coast Guard, DOT.

ACTION: Notice of availability and notice of meeting.

SUMMARY: The U.S. Coast Guard, Research and Special Programs Administration, U.S. Environmental Protection Agency, and Mineral Management Service, in concert with representatives from various State governments, industry, environmental interest groups, and the general public, developed the National Preparedness for Response Exercise Program (PREP) Guidelines to reflect the consensus agreement of the entire oil spill response community. This notice announces the availability of the revised 2002 PREP Guidelines and announces the participating agencies' intent to hold a public meeting in November 2002.

DATES: A public meeting will be held from 8:30 a.m. to 11:30 a.m. on November 7, 2002, in Galveston, Texas.

ADDRESSES: The Docket Management Facility maintains the public docket for this notice. Comments and materials received from the public and the 2002 PREP Guidelines are part of this docket and are available for inspection or copying at room PL-401 on the Plaza level of the Nassif Building, 400 Seventh Street SW., Washington, DC, between 9 a.m. and 5 p.m., Monday through Friday, except Federal holidays. You may also find this docket on the Internet at http://dms.dot.gov.

The 2002 PREP Guidelines also can be found on the following Web site: http://www.uscg.mil/hq/nsfcc/nsfweb/. Hard copies of the PREP Guidelines are available at no cost by writing or faxing the PREP Coordinator at Commandant (G-MOR), 2100 Second Street SW., Washington, DC 20593-0001, fax: 202-267-4065. Please indicate the quantity when ordering. Quantities are limited to 10 per order.

The public meeting will be held in Galveston, Texas, at the Moody Gardens Convention Center, One Hope Blvd., Galveston, Texas, 77554.

FOR FURTHER INFORMATION CONTACT: For questions on this notice and general information regarding PREP Guidelines and the schedule, contact Mr. Robert Pond, Office of Response, Plans and Preparedness Division (G-MOR-2), Coast Guard Headquarters, 2100 Second Street SW., Washington, DC 20593-0001, telephone: 202-267-6603, fax: 202-267-4065, or e-mail: rpond@comdt.uscg.mil. If you have questions on viewing material in the docket, call Ms. Dorothy Beard, Chief, Dockets, Department of Transportation, telephone: 202-366-5149.

SUPPLEMENTARY INFORMATION:

Background and Purpose

In 1994, the U.S. Coast Guard (USCG), and the Research and Special Programs Administration (RSPA) of the Department of Transportation, the U.S. Environmental Protection Agency (U.S. EPA), and the Minerals Management Service (MMS) of the Department of Interior, coordinated the development of the PREP Guidelines. Through a series of public workshops involving representatives from many State governments, the regulated community, environmental interest groups, and the general public, the National Preparedness for Response Exercise Program (PREP) Guidelines were crafted to reflect the consensus agreement of the entire oil spill response community regarding an appropriate exercise program, including exercise types, frequency, scope, and objectives.

For their part, the USCG, RSPA, U.S. EPA, and MMS agreed that an industry entity may use the PREP Guidelines as one means of complying with the pollution response exercise requirements in 33 U.S.C. 1321(j). (For USCG rules, see 33 CFR part 154, subpart F (Response Plans for Oil Facilities) and 33 CFR part 155, subpart D (Response Plans); for RSPA rules, see 49 CFR part 194 (Response Plans for Onshore Oil Pipelines); for U.S. EPA rules, see 40 CFR part 112, subpart D (Response Requirements); and for MMS rules, see 30 CFR part 254 (Oil-Spill Response Requirements for Facilities Located Seaward of the Coast Line).)

Since 1994, USCG, RSPA, U.S. EPA, and MMS have hosted public workshops in 1995 (60 FR 19804, April 20, 1995), 1997 (62 FR 36864, July 9, 1997), and 2000 (65 FR 40160, June 29, 2000) to review the PREP Guidelines and consider need for changes. The first two workshops produced recommendations to preserve the 1994 PREP Guidelines without amendment. Based on comments from the 2000 workshop, the USCG, RSPA, U.S. EPA, and MMS recommended amending the PREP Guidelines to clarify or alter certain exercise parameters and standards.

Key Changes and Clarifications to PREP Guidelines

Several key changes have been made to the PREP Guidelines. The 2002 PREP Guidelines clarify the exercise parameters found in the 1994 version and do not increase or decrease the scope or scale of individual exercises or of the overall program. One exception is the potential frequency for government initiated unannounced exercises, which changes the number of exercises for U.S. EPA regulated facilities from four per year per planning area to no more than 10 percent of such facilities per year.

There also were some minor changes made to individual agency sections and the appendices, with the majority of changes being made to Section 2 “Guiding Principles.”

Section 2 changes included the following:

• The subsection “Equipment Deployment Exercises” was revised to include greater specificity of equipment types to be deployed, along with a more detailed description of the regional Oil Spill Removal Organizations concept. The revision also included encouragement to exercise “systems” rather than individual pieces of equipment, and to use equipment deployment exercises to test the effectiveness of response planning strategies.

• The subsection “Spill Management Team Exercises” was revised to clarify criteria for allowing multiple planholders to take credit for a single spill management team exercise.

• The subsection “Area Exercises” was revised to clarify the scope of an exercise including minimum spill size, a requirement to include industry-funded equipment deployment, and to reiterate that the goal is to exercise the entire response community with the unified command framework.

• The section “Government Initiated Unannounced Exercises” was revised to clarify exercise expectations. Among the 2002 revisions are the expectations of satisfactory performance by planholders and to advise them of the change in the number of potential exercises in an EPA region (up to 10 percent of planholders).

Approach to Revision of PREP Guidelines

On June 29, 2000, we published a notice in the Federal Register (65 FR 40160) requesting comments on the 1994 PREP Guidelines and announcing a public workshop to address current concerns with the PREP Guidelines.

On August 29, 2000, in Washington, DC, the Coast Guard held a public workshop. Based on the comments, the National Schedule Coordination Committee (NSCC)—comprised of representatives from the Coast Guard, RSPA, U.S. EPA, and MMS—proposed changes to the 1994 PREP Guidelines.

On April 13, 2001, we published a notice of availability and request for comment in the Federal Register (66 FR 19282) seeking comments on the proposed changes to the PREP Guidelines.

On August 7, 2001, we published an extension of comment period notice in the Federal Register (66 FR 41293) extending the comment period due to a delay in the availability of the proposed changes to the PREP Guidelines.

On March 13, 2002, we published a notice of availability and request for comments in the Federal Register (67 FR 11368). This notice advised the public of the proposed final changes to the 2002 PREP Guidelines that have been revised based on a review of the comments made in response to the initial changes proposed in April 2001.

Availability of Document

The 2002 PREP Guidelines are available electronically in this docket or from the sources indicated in FOR FURTHER INFORMATION CONTACT.

Public Meeting

The USCG, in conjunction with RSPA, U.S. EPA, and MMS, will hold a public meeting to discuss the 2002 PREP Guidelines on the following date and at the following location: Galveston, Texas, November 7, 2002, from 8:30 a.m. to 11:30 a.m. at the Moody Gardens Convention Center, One Hope Blvd., Galveston, Texas, 77554.

The meeting may conclude before the allotted time if all matters of discussion have been addressed.

Dated: October 16, 2002.
Paul J. Pluta,
Rear Admiral, U.S. Coast Guard, Assistant Commandant for Marine Safety, Security and Environmental Protection.

[FR Doc. 02-26864 Filed 10-21-02; 8:45 am]

BILLING CODE 4910-15-P